Title 3—

The President

Proclamation 7985 of February 27, 2006

Women's History Month, 2006

By the President of the United States of America

A Proclamation

For generations, women across our great land have helped make our country stronger and better. They have improved our communities and played a vital role in achieving justice and equal rights for all our citizens. During Women's History Month, we celebrate the many contributions women make to our society.

At the end of the 19th century, pioneers Jane Addams and Ellen Starr opened the doors of Hull House to serve impoverished and immigrant families in the Chicago community. Presidential Medal of Freedom winner Annie Dodge Wauneka worked to educate her native Navajo community about preventing and treating disease. In 1955, Rosa Parks refused to give up her seat on a city bus in Montgomery, Alabama, helping to inspire a nationwide movement for equal justice under the law. Recently, our Nation said goodbye to another remarkable American woman and courageous civil rights leader, Coretta Scott King, who helped call America to its founding ideals.

Today, the United States of America remains a country that offers the greatest freedom on Earth and believes in the promise of all individuals. Women continue to strengthen our Nation and the world by excelling as leaders in all walks of life, including business, law, politics, family life, education, community service, science, medicine, and the arts. The brave women who wear the uniform of the United States Armed Forces are helping to lay the foundations of peace and freedom for generations to come. This month, I encourage all Americans to join me in celebrating the extraordinary achievements and contributions of American women.

NOW, THEREFORE, I, GEORGE W. BUSH, President of the United States of America, by virtue of the authority vested in me by the Constitution and laws of the United States, do hereby proclaim March 2006 as Women's History Month. I call upon all Americans to observe this month with appropriate ceremonies and activities to honor the history, accomplishments, and contributions of all American women.

IN WITNESS WHEREOF, I have hereunto set my hand this twenty-seventh day of February, in the year of our Lord two thousand six, and of the Independence of the United States of America the two hundred and thirtieth.

B

[FR Doc. 06-2082

Filed 3-1-06; 12:05 pm]

Billing code 3195-01-P